FEDERAL DEPOSIT INSURANCE CORPORATION

Sunshine Act Meeting

Pursuant to the provisions of the “Government in the Sunshine Act” (5 U.S.C. 552b), notice is hereby given that the Federal Deposit Insurance Corporation's Board of Directors will meet in open session at 2:00 p.m. on Thursday, March 9, 2000, to consider the following matters:

Summary Agenda

No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Final amendment to part 340—Restrictions on the Purchase of Assets from the Federal Deposit Insurance Corporation.

Discussion Agenda

Memorandum re: General Counsel's Opinion No. 12—Engaged in the Business of Receiving Deposits Other Than Trust Funds

Memorandum re: 1999 Program Performance Report.

Memorandum and resolution re: Amendments to Part 362—Activities of Insured State Banks and Insured Savings Associations; Part 337—Unsafe and Unsound Banking Practices; and Part 303—Filing Procedures and Delegations of Authority.

The meeting will be held in the Board Room on the sixth floor of the FDIC Building located at 550—17th Street, N.W., Washington, DC.

The FDIC will provide attendees with auxiliary aids (e.g., sign language interpretation) required for this meeting. Those attendees needing such assistance should call (202) 416-2449 (Voice); (202) 416-2004 (TTY), to make necessary arrangements. Request for further information concerning the meeting may be directed to Mr. Robert E. Feldman, Executive Secretary for the Corporation, at (202) 898-6757.

Dated: March 2, 2000.
Federal Deposit Insurance Corporation.
Robert E. Feldman,
Exective Secretary.

[FR Doc. 00-5579 Filed 3-3-00; 10:44 am]

BILLING CODE 6714-01-M